DEPARTMENT OF HOMELAND SECURITY

Federal Emergency Management Agency

44 CFR Part 67

[Docket No. FEMA-P-7685]

Proposed Flood Elevation Determinations

AGENCY: Federal Emergency Management Agency, Emergency Preparedness and Response Directorate, Department of Homeland Security.

ACTION: Proposed rule.

SUMMARY: Technical information or comments are requested on the proposed Base (1% annual-chance) Flood Elevations (BFEs) and proposed BFE modifications for the communities listed below. The BFEs and modified BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: Doug Bellomo, P.E., Hazard Identification Section, Emergency Preparedness and Response Directorate, Federal Emergency Management Agency, 500 C Street, SW., Washington, DC 20472, (202) 646-2903.

SUPPLEMENTARY INFORMATION: The Federal Emergency Management Agency makes the final determinations listed below for the modified BFEs for each community listed. These modified elevations have been published in newspapers of local circulation and ninety (90) days have elapsed since that publication. The Mitigation Division Director of the Emergency Preparedness and Response Directorate has resolved any appeals resulting from this notification.

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act

This proposed rule is categorically excluded from the requirements of 44 CFR Part 10, Environmental Consideration. No environmental impact assessment has been prepared.

Regulatory Flexibility Act

The Mitigation Division Director of the Emergency Preparedness and Response Directorate certifies that this rule is exempt from the requirements of the Regulatory Flexibility Act because modified base flood elevations are required by the Flood Disaster Protection Act of 1973, 42 U.S.C. 4105, and are required to maintain community eligibility in the NFIP. No regulatory flexibility analysis has been prepared.

Regulatory Classification

This proposed rule is not a significant regulatory action under the criteria of Section 3(f) of Executive Order 12866 of September 30, 1993, Regulatory Planning and Review, 58 FR 51735.

Executive Order 12612, Federalism

This proposed rule involves no policies that have federalism implications under Executive Order 12612, Federalism, dated October 26, 1987.

Executive Order 12778, Civil Justice Reform

This proposed rule meets the applicable standards of Section 2(b)(2) of Executive Order 12778.

List of Subjects in 44 CFR Part 67

Administrative practice and procedure, flood insurance, reporting and record keeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Source of flooding and location of referenced elevation | *Elevation in feet (NGVD): Existing | *Elevation in feet (NGVD): Modified | Communities affected
Rosillo Creek (Lower Reach):
At the confluence with Salado Creek (Lower Reach) | None | *531 | Bexar County (Unincorporated Areas) City of San Antonio City of Kirby
Approximately 580 feet upstream of Walzem Road | None | *754 |
Salado Creek (lower Reach):
Approximately 300 feet downstream of South Presa Street | None | *521 | Bexar County (Unincorporated Areas) City of San Antonio
At U. S. Interstate 410 | None | *538 |
Unincorporated Areas of Bexar County, Texas:
Maps are available for inspection at the Bexar County Public Works Department, 233 North Pecos, Suite 420, San Antonio, Texas.
Send comments to The Honorable Nelson W. Wolff, Judge, Bexar County, 100 Dolorosa, Suite 108, San Antonio, Texas 78205.
City of Kirby, Bexar County, Texas:
Maps are available for inspection at 112 Bauman Street, Kirby, Texas.
Send comments to The Honorable Ray Martin, Mayor, City of Kirby, 112 Bauman Street, Kirby, Texas 78219.
City of San Antonio, Bexar County, Texas:
Maps are available for inspection at the Municipal Plaza, 114 West Commerce, 7th Floor, San Antonio, Texas.
Send comments to The Honorable Ed Garza, Mayor, City of San Antonio, City Hall, Office of the Mayor, 100 Military Plaza, San Antonio, Texas 78205.
East Fork to Soap Creek:
At the confluence with Soap Creek | None | *593 | Ellis County (Unincorporated Areas)
At Weatherford Road | None | *616 | City of Midlothian
Newton Branch:
At the confluence with Soap Creek | None | *546 | Ellis County (Unincorporated Areas)
At NRCS Dam No. 10 (Mountain Creek Watershed) | None | *564 | City of Midlothian
Plains Creek:
At the confluence with Newton Branch | None | *550 | Ellis County (Unincorporated Areas)
Approximately 4,900 feet upstream of Old Fort Worth Road | None | *574 |
Soap Creek:
At approximately 300 feet upstream of the confluence with Grassy Creek | None | *538 | Ellis County (Unincorporated Areas) City of Midlothian
Approximately 1,900 feet upstream of the confluence of East Fork to Soap Creek | None | *598 |
Tributary No. 6 to Soap Creek:
At the confluence with Soap Creek | None | *570 | Ellis County (Unincorporated Areas)
Approximately 2,600 feet upstream of the confluence with Soap Creek | None | *574 |
West Fork to Soap Creek:
At the confluence with Soap Creek | None | *581 | Ellis County (Unincorporated Areas)
Approximately 2,500 feet upstream of Ray White Road | None | *601 |
Lake Joe Pool:
Entire shoreline | None | *538 | Ellis County (Unincorporated Areas)
Unincorporated Areas of Ellis County, Texas:
Maps are available for inspection at the Ellis County Courthouse, 101 West Main Street, Waxachachie, Texas.
Send comments to the Honorable Chad Adams, Judge, Ellis County, 101 West Main Street, Waxachachie, Texas 75165.
City of Midlothian, Ellis County, Texas:
Maps are available for inspection at City Hall, 104 West Avenue East, Midlothian, Texas.
Send comments to the Honorable David K. Setzer, Mayor, City of Midlothian, 104 West Avenue East, Midlothian, Texas 76065.

(Catalog of Federal Domestic Assistance No. 83.100, “Flood Insurance.”)
Dated: April 13, 2005.
David I. Maurstad,
Acting Director, Mitigation Division, Emergency Preparedness and Response Directorate.

[FR Doc. 05-7756 Filed 4-18-05; 8:45 am]

BILLING CODE 9110-12-P